GENERAL SERVICES ADMINISTRATION

[Notice-AD-2015-01; Docket 2015-0002; Sequence 31]

Notice of the 2016 Presidential Transition Directory

AGENCY: Presidential Transition, General Services Administration.

ACTION: Notice of availability of the General Services Administration 2016 Presidential Transition Directory.

SUMMARY: The Presidential Transition Directory Web site is designed to help candidates in the 2016 Presidential election get quick and easy access to key resources about the federal government structure and key policies related to Presidential Transition. The creation of the Presidential Transition Directory is mandated by the Presidential Transition Act of 1963, as amended.

DATES: Effective: November 24, 2015.

FOR FURTHER INFORMATION CONTACT: The GSA Presidential Transition Team at presidentialtransition@gsa .gov.

SUPPLEMENTARY INFORMATION: The Presidential Transition Directory (presidentialtransition.usa.gov) Web site is designed to help candidates in the 2016 Presidential election get quick and easy access to key resources about the Federal Government structure and key policies related to Presidential Transition. The creation of the Presidential Transition Directory is mandated by the Presidential Transition Act of 1963, as amended. Connecting resources from the Government Printing Office, Office of Personnel Management, National Archives and Records Administration, U.S. Office of Government Ethics and others, the site will also help future political appointees better understand key aspects of their roles and some of the key policies and aspects of federal service. Additionally, the Directory will be connecting to not-for-profit resources about Presidential Transition to help acquaint potential appointees with the types of problems and challenges that most typically confront new political appointees when they make the transition from prior activities to assuming the responsibility for governance. The site will be continuously updated as new information becomes available to help ensure candidates and their staffs have access to the best information possible as they begin their planning to establish the next management of the Executive Branch of the federal government.

Dated: November 17, 2015.
Mary D. Gibert,
Director, Presidential Transition, U.S. General Services Administration.

[FR Doc. 2015-29920 Filed 11-23-15; 8:45 am]

BILLING CODE P